SECURITIES AND EXCHANGE COMMISSION

[SEC File No. 270-818, OMB Control No. 3235-0774]

Submission for OMB Review; Comment Request; Extension: Amendments to the National Market System Plan Governing the Consolidated Audit Trail

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in connection with amendments ¹ adopted pursuant to the statutory authority provided by the Securities Exchange Act of 1934,² including Sections 11A(a)(3)(B),³ 17(a),⁴ 19(b),⁵ and 23(a) ⁶ thereof, and pursuant to Rule 608(a)(2) and (b)(2),⁷ to a National Market System (NMS) Plan filed with the Commission under Rule 613 (17 CFR 242.613), under the Securities Exchange Act of 1934 (15 U.S.C. 78a et seq.).

¹ See Securities Exchange Act Release No. 88890 (May 15, 2020), 85 FR 31322 (May 22, 2020) (File No. S7-13-19) (“Adopting Release”).

² See 15 U.S.C. 78a et seq.

³ See 15 U.S.C. 78k-1(a)(3)(B).

⁴ See 15 U.S.C. 78q(a).

⁵ See 15 U.S.C. 78s(b).

⁶ See 15 U.S.C. 78w(a).

⁷ See 17 CFR 242.608(a)(2), (b)(2).

The amendments, as adopted, required two new collections of information:

a. Implementation Plan. The amendments require the Participants, within 30 calendar days following the effective date of the amendments, to prepare, file with the Commission, and make publicly available on a website a complete CAT implementation plan (“Implementation Plan”) that includes a detailed timeline for achieving various implementation milestones.

b. Quarterly Progress Reports. The amendments require the Participants, within 30 calendar days after the end of each calendar quarter, to prepare, file with the Commission, and make publicly available on a website a complete report (the “Quarterly Progress Report”) that provides a detailed and up-to-date description of the progress made by the Participants toward each of the milestones identified in the Implementation Plan.

The one-time information collection associated with the Implementation Plan was completed by the Participants, so there will be no further burdens associated with the Implementation Plan. The Quarterly Progress Report information collection continues.

There are currently 25 Participants, who must complete four Quarterly Progress Reports per year. The Commission staff estimates that, on the average, most Quarterly Progress Reports require approximately 72 hours per Participant, and cost approximately $8,000 per Participant. The Commission staff estimates Participants spend a total of approximately 7,200 hours per year (25 × 4 × 72) and $800,000 per year (25 × 4 × $8,000) complying with the rule.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by August 14, 2023 to (i) www.reginfo.gov/public/do/PRAMain and (ii) David Bottom, Director/Chief Information Officer, Securities and Exchange Commission, c/o John Pezzullo, 100 F Street NE, Washington, DC 20549, or by sending an email to: PRA_Mailbox@sec.gov.

Dated: July 11, 2023.
Sherry R. Haywood,
Assistant Secretary.

[FR Doc. 2023-15000 Filed 7-13-23; 8:45 am]

BILLING CODE 8011-01-P